OFFICE OF PERSONNEL MANAGEMENT

5 CFR Part 178

RIN 3206-AJ13

Procedures for Settling Claims

AGENCY: Office of Personnel Management.

ACTION: Final rule.

SUMMARY: The Office of Personnel Management (OPM) is issuing a final rule to amend its regulation on procedures for settling claims. The amendments reflect the recent transfer within OPM of the authority to settle claims by advising individuals where they now may file such claims.

EFFECTIVE DATE: Effective July 3, 2000.

FOR FURTHER INFORMATION CONTACT: Jo-Ann Chabot, (202) 606-1700.

SUPPLEMENTARY INFORMATION: The United States General Accounting Office originally settled claims concerning federal employees'compensation and leave, compensation of deceased employees, and proceeds of canceled checks for veterans' benefits payable to deceased beneficiaries. On June 30, 1996, the Legislative Branch Appropriations Act of 1996 transferred the authority to settle these claims from the General Accounting Office to the Director of the Office of Management and Budget. See Sec. 211, Pub. L. 104-53, 109 Stat. 535. On June 28, 1996, the Acting Director of the Office of Management and Budget issued a determination order redelegating to OPM the authority to settle claims against the United States involving federal employees' compensation and leave, deceased employees' compensation, and proceeds of canceled checks for veterans' benefits payable to deceased beneficiaries. Congress subsequently codified these changes through additional legislation. See Pub.L. 104-316, 110 Stat. 3826.

The Director of OPM initially delegated the claims settlement authority to the Office of General Counsel. On April 10, 2000, the Director of OPM transferred the claims settlement authority to the Office of Merit Systems Oversight and Effectiveness. Consequently, OPM is amending section 178.102(e)(1), as well as section 178.207(b) and (c), to reflect that individuals should file Part 178 claims with the Office of Merit Systems Oversight and Effectiveness rather than with the Claims Adjudication Unit, Office of the General Counsel.

Waiver of Notice of Proposed Rulemaking

I find, under 5 U.S.C. 553(b)(3)(B), that good cause exists for waiving the general notice of proposed rulemaking. The notice is being waived because these amendments merely reflect an organizational change within OPM and do not affect the rights of federal employees to file claims for settlement under Part 178. In addition, potential claimants must know, as soon as possible, where they now should file their claims.

Regulatory Flexibility Act

I certify that this regulation would not have a significant economic impact on a substantial number of small entities because they would apply only to Federal agencies and employees.

List of Subjects in 5 CFR Part 178

Administrative practice and procedure, Claims, Compensation, Government employees.

U.S. Office of Personnel Management.
Janice R. Lachance,
Director.

For the reasons set forth in the preamble, OPM is amending 5 CFR part 178 as follows:

PART 178—PROCEDURES FOR SETTLING CLAIMS

Subpart A—Administrative Claims—Compensation and Leave, Deceased Employees' Accounts and Proceeds of Canceled Checks for Veterans' Benefits Payable to Deceased Beneficiaries

1. The authority citation for subpart A continues to read as follows:

Authority: 31 U.S.C. 3702; 5 U.S.C. 5583; 38 U.S.C. 5122; Pub. L. No. 104-53, § 211, 109 Stat. 535 (Nov. 19, 1995); E.O. 12107.

2. In § 178.102, revise paragraph (e)(1) to read as follows:

§ 178.102 Procedures for submitting claims.

* * * * *

(e) Where to submit claims. (1) All claims under this section should be sent to the Program Manager, Office of Merit Systems Oversight and Effectiveness, Room 7671, Office of Personnel Management, 1900 E Street NW., Washington, DC 20415. Telephone inquiries regarding these claims may be made to (202) 606-7948.

* * * * *

Subpart B—Settlement of Accounts for Deceased Civilian Officers and Employees

1. The authority citation for subpart B continues to read as follows:

Authority: 5 U.S.C. 5581, 5582, 5583.

§ 178.207 [Amended]

2. In § 178.207, remove the words “Claims Adjudication Unit, Office of General Counsel” from paragraph (b) and the words “Claims Adjudication Unit” from paragraph (c). Add in their place the words “Office of Merit Systems Oversight and Effectiveness.”

[FR Doc. 00-16708 Filed 6-30-00; 8:45 am]

BILLING CODE 6325-01-P